DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Jail Diversion and Trauma Recovery—Priority to Veterans Program Evaluation—NEW

The Substance Abuse and Mental Health Services Administration's (SAMHSA), Center for Mental Health Services (CMHS) has implemented the Jail Diversion and Trauma Recovery Program (JDTR)—Priority to Veterans to support local implementation and State-wide expansion of trauma-integrated jail diversion programs to reach individuals with post-traumatic stress disorder (PTSD) and trauma-related disorders involved in the justice system. JDTR requires grantees to implement a State infrastructure program linked to a local pilot criminal justice diversion project. At the State level, the State Mental Health Authority (SMHA) will convene a State Advisory Committee that provides oversight of pilot projects' training, diversion, service delivery and local project evaluation, as well as design and implement plans to disseminate knowledge about effective pilot projects and to replicate them in other communities in the State. CMHS is requesting approval from the Office of Management and Budget (OMB) to implement a data collection document, the Semi-Annual Progress Report (SAPR), to evaluate the implementation, expansion, and sustainability of jail diversion and trauma-informed services developed under the JDTR program.

The current proposal requests implementing the Semi-Annual Progress Report (SAPR) to collect information in the following areas:

a. Document the State and pilot level goals for the project;

b. Describe the project environment, including changes that have helped or hindered implementation;

c. Estimate project spending on State, pilot, and evaluation activities;

d. Describe activities and progress on State level infrastructure change components, including barriers to progress;

e. Report on pilot project progress, including activities related to the pilot program, changes to program plans, and barriers to implementation;

f. Describe any project accomplishments, including documenting numbers and types of trainings, as well as any policy changes; and

g. Describe and update progress in meeting cross-site client evaluation requirements.

This information would be collected twice a year: In March and September. Six grantees were awarded 5-year grants in FY 2008 and six more 5-year grants are anticipated in 2009. The six FY 2008 grantees began data collection in March of FY 2009. Six additional possible future grantees awarded on September 30, 2009 would commence data collection in March of FY 2010. The burden estimate for completing the SAPR is as follows:

CY 2009 Annual Reporting Burden
Data collection activity | Number of respondents ¹ | Responses per respondent ³ | Total responses | Average hours per response | Total hour burden
Semi-Annual Progress report | ² 12 | 1 | 12 | 5 | 60
Overall Total: | 12 |  | 12 |  | 60
¹ The respondents are the State Grantees.
² The respondents include FY 2008 Grantees and anticipated FY 2009 Grantees. The SAPR will be completed once by all 12 sites, in March 2010.
³ The Project Director for each Grantee is responsible for compiling and submitting the SAPR.

CY 2010 Annual Reporting Burden
Data collection activity | Number of respondents ¹ | Responses per respondent ³ | Total responses | Average hours per response | Total hour burden
Reporting for FY 2008 and anticipated FY 2009
Semi-Annual Progress report | 12 | 2 | 24 | 5 | 120
Reporting for possible FY 2010
Semi-Annual Progress report | 6 | ² 1 | 6 | 5 | 30
Overall Total: | 18 |  | 30 |  | 150
¹ The respondents are the States.
² The SAPR will be completed once by possible FY 2010 sites, in March 2011.
³ The Project Director for each Grantee is responsible for compiling and submitting the SAPR.

CY 2011 Annual Reporting Burden
Data collection activity | Number of respondents ¹ | Responses per respondent ² | Total responses | Average hours per response | Total hour burden
Semi-Annual Progress report | 18 | 2 | 36 | 5 | 180
Overall Total: | 18 |  | 36 |  | 180
¹ The respondents are the States.
² The Project Director for each Grantee is responsible for compiling and submitting the SAPR.

CY 2012 Annual Reporting Burden
Data collection activity | Number of respondents ¹ | Responses per respondent ² | Total responses | Average hours per response | Total hour burden
Semi-Annual Progress report | 18 | 2 | 36 | 5 | 180
Overall Total: | 18 |  | 36 |  | 180
¹ The respondents are the States.
² The Project Director for each Grantee is responsible for compiling and submitting the SAPR.

Send comments to Summer King, SAMHSA Reports Clearance Officer, OAS, Room 7-1044, One Choke Cherry Road, Rockville, MD 20857 and e-mail her a copy at summer.king@samhsa.hhs.gov. Written comments should be received within 60 days of this notice.

Dated: July 29, 2009.
Elaine Parry,
Director, Office of Program Services.

[FR Doc. E9-18940 Filed 8-6-09; 8:45 am]

BILLING CODE 4162-20-P